DEPARTMENT OF HEALTH AND HUMAN SERVICES

Administration for Children and Families

Proposed Information Collection Activity; Comment Request

Title: Same-sex relationships: Updates to Healthy Marriage and Relationship Education.

OMB No.: New Collection

Description: The Administration for Children and Families (ACF) will examine how healthy marriage programs currently approach, and could approach, serving sexual minority populations, that is, lesbian, gay, and bisexual populations. ACF expects to collect and analyze data from a range of information collection efforts—including interviews with program administrators, program managers, healthy marriage and relationship programming experts, and focus groups with program applicants and program attendees—to propose methods and practices for serving such couples/individuals/youth.

Respondents: Current healthy marriage program applicants and participants, program managers and facilitators, and experts in the field.

Annual Burden Estimates
Instrument | Total/annual number of respondents | Number of responses per respondent | Average burden hours per response | Annual burden hours
Focus Group Guide for Program Applicants | 30 | 1 | 1.5 | 45
Focus Group Guide for Program Attendees | 60 | 1 | 1.5 | 90
Focus Group Guide for Program Attendees | 60 | 1 | 1.5 | 90
Interview Guide for Program Managers | 6 | 1 | 1 | 6
Interview Guide for Program Facilitators | 12 | 1 | 1 | 12
Interview Guide for Program Experts | 12 | 1 | 1 | 12

Estimated Total Annual Burden Hours: 255.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2015-07316 Filed 3-30-15; 8:45 am]

BILLING CODE 4184-73-P